DEPARTMENT OF COMMERCE

International Trade Administration

A-570-601

Tapered Roller Bearings and Parts Thereof, Finished and Unfinished, from the People's Republic of China; Extension of Time Limit for Final Results of the 2006-2007 Administrative Review

AGENCY: Import Administration, International Trade Administration, Department of Commerce.

EFFECTIVE DATE: November 21, 2008.

FOR FURTHER INFORMATION CONTACT: Paul Stolz, AD/CVD Operations, Office 9, Import Administration, International Trade Administration, U.S. Department of Commerce, 14th Street and Constitution Avenue, NW, Washington DC 20230; telephone: (202) 482-4474.

SUPPLEMENTARY INFORMATION:

Background

On July 26, 2007, the Department of Commerce (“the Department”) published in the Federal Register a notice of the initiation of the antidumping duty administrative review of tapered roller bearings and parts thereof, finished and unfinished (“TRBs”) from the People's Republic of China (“PRC”). See Initiation of Antidumping and Countervailing Duty Administrative Reviews and Request for Revocation in Part, 72 FR 41057 (July 26, 2007). On July 17, 2008, the Department published its preliminary results on TRBs from the PRC. See Tapered Roller Bearings and Parts Thereof, Finished and Unfinished, from the People's Republic of China: Preliminary Results of Antidumping Duty Administrative Review, 73 FR 41033 (July 17, 2008). The final results of this administrative review are currently due no later than November 14, 2008.

Extension of Time Limit for Final Results

Section 751(a)(3)(A) of the Tariff Act of 1930, as amended (“the Act”), requires the Department to issue the final results in an administrative review within 120 days after the date on which the preliminary results are published. However, if it is not practicable to complete the review within this time period, section 751(a)(3)(A) of the Act allows the Department to extend the time period to a maximum of 180 days.

The Department has determined that completion of the final results within the 120-day period is not practicable because the Department requires additional time to analyze case and rebuttal briefs, and to hold a hearing. Because it is not practicable to complete this review within the current time limit, the Department is extending the time period for issuing the final results of review by 60 days, until January 13, 2009, in accordance with section 751(a)(3)(A) of the Act and 19 CFR 351.213(h)(2).

This notice is published pursuant to sections 751(a) and 777(i) of the Act.

Dated: November 13, 2008.
Stephen J. Claeys,
Deputy Assistant Secretary for Import Administration.

[FR Doc. E8-27760 Filed 11-20-08; 8:45 am]

BILLING CODE 3510-DS-S